DEPARTMENT OF DEFENSE

Department of the Army; Corps of Engineers

Notice of Availability of the Draft Environmental Impact Statement for BP Cherry Point Previously Authorized and Constructed Dock (North Wing), an Extension to the Existing BP Cherry Point Dock, in Strait of Georgia at Cherry Point, Near Ferndale, Whatcom County, WA

AGENCY: Department of the Army, U.S. Army Corps of Engineers, DoD.

ACTION: Notice of Availability.

SUMMARY: The U.S. Army Corps of Engineers (Corps) Seattle District has prepared a Draft Environmental Impact Statement (EIS) to examine the incremental environmental risk, principally from vessel traffic, related to operation of the previously authorized and constructed North Wing of the BP Cherry Point dock. Incremental environmental risk is defined in this EIS as the change in environmental risk between operating the BP Cherry Point dock at maximum capacity with a single berth (the South Wing) and operating the dock with two berths (the North Wing and South Wing) at projected future vessel traffic levels. The Proposed Action is continuing the existing operations at the BP Cherry Point Dock with two berths, one principally for import of crude oil and the other for distribution of refined petroleum products.

The Corps has been directed by Ninth Circuit Court of Appeals to complete an EIS on the impacts of the permitted dock.

The Draft EIS was prepared in accordance with the National Environmental Policy Act (NEPA) of 1969, as amended, the Corps' regulations for NEPA implementation (33 Code of Federal Regulations [CFR] parts 230 and 325, Appendices B and C). The Corps, Seattle District, Regulatory Branch is the federal lead agency and the U.S. Coast Guard, as a cooperating agency. Information contained in the EIS serves as the basis for a decision regarding evaluation process of the existing permit under Section 10 of Rivers and Harbors Act for the BP Cherry Point dock. It also provides information for U.S. Coast Guard, other Federal, state, and local agencies having jurisdictional responsibility for affected resources.

DATES: Written comments on the Draft EIS will be accepted on or after June 6, 2014 until August 6, 2014.

ADDRESSES: Send written comments regarding the Proposed Action and Draft EIS to Olivia H. Romano, Project Manager, U.S. Army Corps of Engineers, Seattle Regulatory Branch, 4735 E. Marginal Way South, Seattle, Washington 98134; (206) 764-6960 or via email to Olivia.h.romano@usace.army.mil.

FOR FURTHER INFORMATION CONTACT: Mrs. Olivia Romano, Project Manager, (206) 764-6960 or via email to Olivia.h.romano@usace.army.mil.

SUPPLEMENTARY INFORMATION: Oral and/or written comments may also be presented at the Public meetings for the Draft EIS will be held on:

1. Bellingham, WA. July 16, 2014 from 7 p.m. to 9 p.m. with an open house from 6 p.m. to 7 p.m.. Shuksan Middle School Gymnasium, 2717 Alderwood Avenue, Bellingham, Washington 98225.

2. Seattle, WA. July 24, 2014 from 7 p.m. to 9 p.m. with an open house from 6 p.m. to 7 p.m. The Federal Center South, Galaxy Room, 4735 East Marginal Way South, Seattle, Washington 98134.

The purpose of the Draft EIS is to provide decision-makers and the public with information pertaining to the incremental environmental risk related to operations of the dock, proposed action and alternatives, disclose environmental impacts from potential vessel traffic accidents and oil spills in Puget Sound region, and identify mitigation measures.

Dated: May 22, 2014.
Bruce A. Estok,
Colonel, Corps of Engineers, District Engineer, Seattle District.

[FR Doc. 2014-13315 Filed 6-6-14; 8:45 a.m.]

BILLING CODE 3720-58-P